NATIONAL CAPITAL PLANNING COMMISSION

Final Adoption of Updated Federal Elements of the Comprehensive Plan for the National Capital

AGENCY: National Capital Planning Commission.

ACTION: Notice of final adoption of updated Federal Elements of the Comprehensive Plan for the National Capital.

SUMMARY: The National Capital Planning Commission (NCPC) adopted updates to the Federal Elements of the Comprehensive Plan for the National Capital (Comprehensive Plan) on February 4, 2016. The updated elements will become effective on Tuesday, April 5, 2016.

NCPC is the central planning agency for the federal government in the National Capital Region and prepares and adopts a “comprehensive, consistent, and coordinated plan for the National Capital.” The Federal Elements guide planning and development, and address matters related to Federal properties and interests in the National Capital Region, which include the District of Columbia; Montgomery and Prince George's Counties in Maryland; Arlington, Fairfax, Loudoun, and Prince William Counties in Virginia; and all cities within the boundaries of these counties. The Federal Elements provide the policy framework for Commission actions on plans and proposals submitted for its review. The eight Federal Elements in the Comprehensive Plan include Urban Design, Federal Workplace, Foreign Missions & International Organizations, Transportation, Parks & Open Space, Federal Environment, Historic Preservation, and Visitors & Commemoration.

Dates and Time: The 2016 Federal Elements were adopted on February 4, 2016 and will become effective on Tuesday, April 5, 2016.

ADDRESSES: The updated Federal Elements of the Comprehensive Plan for the National Capital may be viewed at the National Capital Planning Commission, 401 9th Street NW., Suite 500N, Washington, DC 20004.

FOR FURTHER INFORMATION CONTACT: Angela Dupont at compplan@ncpc.gov.

SUPPLEMENTARY INFORMATION: The updated Federal Elements of the Comprehensive Plan for the National Capital may be viewed electronically at: http://www.ncpc.gov/compplan.

Authority: 40 U.S.C. 8721(a).

Dated: March 17, 2016.
Anne R. Schuyler,
General Counsel.

[FR Doc. 2016-06800 Filed 3-24-16; 8:45 am]

BILLING CODE 7520-01-P